DEPARTMENT OF HOMELAND SECURITY

[Docket Number DHS-2023-0011]

Agency Information Collection Activities: Generic Clearance for Formative Data Collections for Evaluations, Research, and Evidence Building

AGENCY: Department of Homeland Security (DHS).

ACTION: 30-Day notice and request for comments; generic clearance for formative data collections for evaluations, research, and evidence building.

SUMMARY: The Department of Homeland Security, DHS will submit the following information collection request (ICR) to the Office of Management and Budget (OMB) for review and clearance in accordance with the Paperwork Reduction Act of 1995. DHS previously published this information collection request (ICR) in the Federal Register on 03/14/2023, for a 60-day public comment period. No comments submitted.

DATES: Comments are encouraged and will be accepted until July 14, 2023. This process is conducted in accordance with 5 CFR 1320.10.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: The U.S. Department of Homeland Security (DHS) intends to request approval from OMB for a generic clearance to pretest data collection instruments and procedures with more than nine participants to identify and resolve any question or procedural problems in DHS's survey administration. The Generic Clearance for Pretesting Instruments and Procedures for Evaluation, Research, and Evidence-Building is a new information collection request.

The DHS studies its programs, and the populations they serve, through rigorous evaluation, research, and evidence-building activities. These include evaluations of existing programs, evaluations of innovative approaches to allow the Agency to respond to its evolving threat environment with effective strategies and operations that ensure a safe, secure, and prosperous Homeland, research syntheses, and descriptive and exploratory studies. To improve the development of its surveys used in evaluation, research, and evidence-building activities, the DHS intends to pretest data collection instruments and procedures through a variety of techniques including cognitive and usability laboratory and field techniques, behavior coding, exploratory interviews, respondent debriefing questionnaires, split sample experiments, focus groups, and pilot studies/pretests. These activities will allow the DHS to identify if and when a survey may be simplified for respondents, respondent burden may be reduced, and other possible improvements.

The DHS will use the results of information collections internally to inform subsequent information collection requests. The information collected is not intended to be used as the principal basis for a decision by a federal decision-maker and is not expected to meet the threshold of influential or highly influential scientific information.

The DHS will test a variety of instruments and procedures under this clearance. The exact nature of the instruments and the samples is dependent on each individual project and details will be provided for each individual information collection requests submitted. The particular samples included in future generic information collection requests will vary based on the content of the instrument being tested. The DHS and its contractors will collect information electronically and/or use online collaboration tools, as appropriate, to reduce the burden. Specific information regarding the use of technology will be submitted with each individual information collection request. Following standard OMB requirements, the DHS will submit a change request for each individual data collection activity under this generic clearance. Each request will include the individual instrument(s), a justification specific to the individual information collection, and any supplementary documents. OMB should review within 10 days of receiving each change request.

Respondents include participants in DHS programs being evaluated; participants in DHS pilots and demonstrations; recipients of DHS grants and individuals served by DHS grantees; comparison group members; and other relevant populations, such as individuals eligible for DHS services. Small business or other small entities may be involved in these efforts, but the DHS will minimize the burden on them of information collections approved under this clearance by sampling, asking for readily available information, and using short, easy-to-complete information collection instruments.

This may include one-time collections or iterative testing, based on the specific situation. In all cases, without the proposed information collection activities, the quality of the data collected for DHS studies would suffer. Pretesting of the scale envisioned here would not be done under other circumstances due to the time constraints of seeking clearance for each individual survey's pretesting plan. The efficient and timely pretesting and piloting efforts allow feedback to contribute directly to more targeted and improved study designs. Conversely, the failure to engage in pretesting and pilot data collection limits the DHS's ability to improve the quality of evidence about programs, pilots, initiatives, and services while reducing administrative burden to the public.

If the Privacy Act does apply to a collection, the DHS will provide a Privacy Act statement, System of Record Notices (SORN), or other associated documentation, as appropriate. Participation in any formative data collection effort will be voluntary, and personally identifiable information will only be collected to the extent necessary. Respondents will be informed of all planned data uses, that their participation is voluntary, and that their information will be kept private to the extent permitted by law. All data collection shall protect respondent privacy to the extent permitted by law and will comply with all Federal and Agency regulations for private information. If a confidentiality pledge is deemed necessary, the Agency will only include a pledge of confidentiality supported by authority established in statute or regulation, supported by disclosure and data security policies that are consistent with the pledge.

The primary purpose of data collected under this generic clearance is not for publication. However, because the pretesting and piloting data collection efforts are intended to inform the DHS's decision-making related to evidence-building and programmatic activities, results of these methodological studies may be made public through methodological appendices or footnotes, reports on instrument development, instrument user guides, descriptions of respondent behavior, and other publications or presentations describing findings of methodological interest. The results of these pretesting activities may be prepared for presentation at professional meetings or publication in professional journals. Although not anticipated, the DHS may receive requests to release the information (e.g., congressional inquiry, Freedom of Information Act requests) and will disseminate the findings when appropriate, following the Agency's guidelines. Results will be labeled as exploratory in nature and any limitations will be described.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used.

3. Enhance the quality, utility, and clarity of the information to be collected; and

4. Minimize the burden of the collection of information on those who are to respond, including through the use of appropriate automated, electronic, mechanical, or other technological collection techniques or other forms of information technology, e.g., permitting electronic submissions of responses.

The Office of Management and Budget is particularly interested in comments which:

1. Evaluate whether the proposed collection of information is necessary for the proper performance of the functions of the agency, including whether the information will have practical utility.

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

There is no change or adjustment to the burden associated with the collection of information associated with the DHS complaint form. DHS is not proposing to make any changes to the DHS compliant form. This request is a renewal of the current ICR collection expiring in 60 days.

Analysis

Agency: Department of Homeland Security (DHS).

Title: Generic Clearance for Formative Data Collection for Evaluation, Research, and Evidence Building.

OMB Number: 1601-New.

Frequency: One-time collection.

Affected Public: Individuals and households.

Number of Respondents: 22,750.

Estimated Time per Respondent: 33 minutes.

Total Burden Hours: 12,488.

Robert Dorr,
Executive Director, Business Management Directorate.

[FR Doc. 2023-12658 Filed 6-13-23; 8:45 am]

BILLING CODE 9112-FL-P